DEPARTMENT OF AGRICULTURE

Foreign Agricultural Service

Notice of Request for Revision of a Currently Approved Information Collection

AGENCY: Foreign Agricultural Service, USDA.

ACTION: Notice and request for comments.

SUMMARY: In accordance with the Paperwork Reduction Act of 1995, this notice announces the intention of the Foreign Agricultural Service (FAS) to request approval from the Office of Management and Budget (OMB) of a new information collection in support of the foreign donation of agricultural commodities under the section 416(b) program, the Food for Progress Program, and the McGovern-Dole International Food for Education and Child Nutrition Program.

DATES: Comments on this notice must be received by July 14, 2025.

ADDRESSES: You may send comments, identified by the OMB Control number 0551-0035, by any of the following methods:

• Federal eRulemaking Portal: https://www.regulations.gov. This portal enables respondents to enter short comments or attach a file containing lengthier comments.

• Email: lindsay.carter@usda.gov. Include OMB Control number 0551-0035 in the subject line of the message.

• Mail, Courier, or Hand Delivery: Lindsay Carter, Acting Senior Director, International Food Assistance Division, Foreign Agricultural Service, U.S. Department of Agriculture, Stop 1034, Washington, DC 20250-1034.

Instructions: All submissions received must include the agency name and OMB Control Number for this notice.

FOR FURTHER INFORMATION CONTACT: Lindsay Carter, Acting Senior Director, International Food Assistance Division, Foreign Agricultural Service, U.S. Department of Agriculture, Stop 1034, Washington, DC 20250-1034; or by email at lindsay.carter@usda.gov; or by telephone at (202) 236-1095.

SUPPLEMENTARY INFORMATION:

Title: Foreign Donation of Agricultural Commodities (section 416(b) and Food for Progress programs) and McGovern-Dole International Food for Education and Child Nutrition Program.

OMB Number: 0551-0035.

Expiration Date of Approval: April 30, 2027.

Type of Request: Addition of a new information collection to the OMB Control number 0551-0035.

Abstract: Under the section 416(b) and Food for Progress programs (the “Foreign Donation Programs”) and the McGovern-Dole International Food for Education and Child Nutrition (“McGovern-Dole”) program, information will be gathered from recipients who receive federal awards under the programs to determine the viability of requests for resources to implement activities in foreign countries. Recipients of awards under the programs must submit a Cover Letter to the Final Financial Report to assure that financial requirements and objectives are met.

Estimate of Burden: The public reporting burden for each respondent resulting from information collections under the Foreign Donation Programs or the McGovern-Dole Program varies in direct relation to the number and type of agreements entered into by such respondent. The estimated average reporting burden for the Foreign Donation Programs is 4 hours per response and for the McGovern-Dole Program is 4 hours per response.

Respondents: Private voluntary organizations, cooperatives, colleges and universities, foreign governments, and intergovernmental organizations

Estimated Number of Respondents: 11 per annum.

Estimated Number of Responses per Respondent: 2 per annum.

Estimated Total Annual Burden: 88 hours.

Copies of this information collection may be obtained from Kenneth Vernon, the Agency Information Collection Coordinator, at kenneth.vernon@usda.gov.

Requests for Comments: Send comments regarding (a) whether the information is necessary for the proper performance of the functions of the agency, including whether the information will have practical utility; (b) the accuracy of the agency's estimate of the burden of the collection of information including validity of the methodology and assumption used; (c) ways to enhance the quality, utility, and clarity of the information to be collected; and (d) ways to minimize the burden of the collection of information on those who are to respond, including through the use of automated, electronic, mechanical, or other technological collection techniques, or other forms of information technology.

All comments received in response to this notice, including names and addresses when provided, will be a matter of public record. Comments will be available without change, including any personal information provided, for inspection online at https://www.regulations.gov and at the mail address listed above between 8 a.m. and 4:30 p.m., Monday through Friday, except holidays.

Comments will be summarized and included in the submission for OMB approval.

Persons with disabilities who require an alternative means for communication of information (Braille, large print, audiotape, etc.) should contact RARequest@usda.gov.

Daniel Whitley,
Administrator, Foreign Agricultural Service.

[FR Doc. 2025-08493 Filed 5-13-25; 8:45 am]

BILLING CODE 3410-10-P